COMMODITY FUTURES TRADING COMMISSION

Sunshine Act Meetings

FEDERAL REGISTER CITATION OF PREVIOUS ANNOUNCEMENT: 83 FR 16060, April 13, 2018.

PREVIOUSLY ANNOUNCED TIME AND DATE OF THE MEETING: 10:00 a.m., Friday, April 20, 2018.

CHANGES IN THE MEETING: The time of the meeting has changed. This meeting will now be held at 9:45 a.m. on Friday, April 20, 2018.

CONTACT PERSON FOR MORE INFORMATION: Christopher Kirkpatrick, 202-418-5964.

Natise L. Allen,
Executive Assistant.

[FR Doc. 2018-08287 Filed 4-17-18; 4:15 pm]

BILLING CODE 6351-01-P